FEDERAL MARITIME COMMISSION

[Petition No. P4-16]

Petition of the Coalition for Fair Port Practices for Rulemaking; Notice of Accessibility and Extension of Time

On January 23, 2018, the Commission resumed normal operations and offices are now open and accessible. Time has been extended for this proceeding. Replies and any further submissions to the record are now due February 1, 2018.

By the Commission.
Rachel E. Dickon,
Assistant Secretary.

[FR Doc. 2018-01982 Filed 1-31-18; 8:45 am]

BILLING CODE 6731-AA-P